DEPARTMENT OF COMMERCE

International Trade Administration

[C-475-819]

Certain Pasta From Italy: Preliminary Results and Partial Rescission of the Eighth Countervailing Duty Administrative Review

AGENCY: Import Administration, International Trade Administration, Department of Commerce.

SUMMARY: The Department of Commerce is conducting an administrative review of the countervailing duty order on certain pasta from Italy for the period January 1, 2003 through December 31, 2003. We preliminarily find that the countervailing duty rates during the period of review for all of the producers/exporters under review are less than 0.5 percent and are, consequently, de minimis. See the “Preliminary Results of Review” section, below. If the final results remain the same as these preliminary results, we will instruct U.S. Customs and Border Protection to liquidate entries during the period January 1, 2003 through December 31, 2003 without regard to countervailing duties in accordance with 19 CFR 351.106(c)(1). We are also rescinding the review for Pastificio Carmine Russo S.p.A./Pastificio Di Nola S.p.A. and Pastificio Antonio Pallante S.r.1. in accordance with 19 CFR 351.213(d)(3). Interested parties are invited to comment on these preliminary results (see the “Public Comment” section of this notice).

DATES: Effective Date: April 8, 2005.

FOR FURTHER INFORMATION CONTACT: Melani Miller Harig or Mac Rivitz, AD/CVD Operations, Office 1, Import Administration, U.S. Department of Commerce, Room 3099, 14th Street and Constitution Avenue, NW., Washington, DC 20230; telephone (202) 482-0116 and (202) 482-1382, respectively.

SUPPLEMENTARY INFORMATION

Case History

On July 24, 1996, the Department of Commerce (“the Department”) published a countervailing duty order on certain pasta (“pasta” or “subject merchandise”) from Italy. See Notice of Countervailing Duty Order and Amended Final Affirmative Countervailing Duty Determination: Certain Pasta From Italy, 61 FR 38544 (July 24, 1996). On July 1, 2004, the Department published a notice of “Opportunity to Request Administrative Review” of this countervailing duty order for calendar year 2003, the period of review (“POR”). See Antidumping or Countervailing Duty Order, Finding, or Suspended Investigation; Opportunity to Request Administrative Review, 69 FR 39903 (July 1, 2004). On July 30, 2004, we received requests for reviews from the following four producers/exporters of Italian pasta: Pastificio Antonio Pallante S.r.1. (“Pallante”), Pastificio Corticella S.p.A. (“Corticella”)/Pastificio Combattenti S.p.A. (“Combattenti”) (collectively, “Corticella/Combattenti”), Pasta Lensi S.r.1. (“Lensi”), ¹ and Pastificio Carmine Russo S.p.A./Pastificio Di Nola S.p.A. (collectively, “Russo/Di Nola”). In accordance with 19 CFR 351.221(c)(1)(i), we published a notice of initiation of the review on August 30, 2004. See Initiation of Antidumping and Countervailing Duty Administrative Reviews and Requests for Revocation in Part, 69 FR 52857 (August 30, 2004).

¹ Lensi is the successor-in-interest to IAPC Italia S.r.1. See Notice of Final Results of Antidumping and Countervailing Duty Changed Circumstances Reviews: Certain Pasta from Italy, 68 FR 41553 (July 14, 2003).

On September 7,2004, we issued countervailing duty questionnaires to the Commission of the European Union, the Government of Italy (“GOI”), Pallante, Corticella/Combatteni, Lensi, and Russo/Di Nola. We received responses to our questionnaires in October and November 2004. We issued supplemental questionnaires to the respondents in November 2004, and received responses to our supplemental questionnaires in November and December 2004.

On September 15, 2004, Russo/Di Nola withdrew its request for review. Pallante withdrew its request for review on October 28, 2004. As discussed in the “Partial Rescission” section, below, we are rescinding this administrative review for both Russo/Di Nola and Pallante.

Partial Rescission

The Department's regulations at 19 CFR 351.213(d)(1) provide that the Department will rescind an administrative review, in whole or in part, if a party that requested a review withdraws the request within 90 days of the date of publication of the notice of initiation of the requested review. On September 15, 2004, Russo/Di Nola withdrew its request for an administrative review; Pallante withdrew its request for an administrative review on October 28, 2004. Both parties submitted their withdrawal requests within the 90-day deadline. No other party requested a review of Pallante's or Russo/Di Nola's sales. Therefore, because these withdrawal requests were timely filed, we are rescinding this review with respect to Pallante and Russo/Di Nola in accordance with 19 CFR 351.213(d)(1). We will instruct U.S. Customs and Border Protection (“Customs”) to liquidate any entries from Pallante and Russo/Di Nola during the POR and to assess countervailing duties at the rate that was applied at the time of entry.

Scope of the Order

Imports covered by the order are shipments of certain non-egg dry pasta in packages of five pounds four ounces or less, whether or not enriched or fortified or containing milk or other optional ingredients such as chopped vegetables, vegetable purees, milk, gluten, diastasis, vitamins, coloring and flavorings, and up to two percent egg white. The pasta covered by this scope is typically sold in the retail market, in fiberboard or cardboard cartons, or polyethylene or polypropylene bags of varying dimensions.

Excluded from the scope of the order are refrigerated, frozen, or canned pastas, as well as all forms of egg pasta, with the exception of non-egg dry pasta containing up to two percent egg white. Also excluded are imports of organic pasta from Italy that are accompanied by the appropriate certificate issued by the Instituto Mediterraneo Di Certificazione, Bioagricoop S.r.l., QC&I International Services, Ecocert Italia, Consorzio per il Controllo dei Prodotti Biologici, Associazione Italiana per l' Agricoltura Biologica, or Codex S.r.L. In addition, based on publicly available information, the Department has determined that, as of August 4, 2004, imports of organic pasta from Italy that are accompanied by the appropriate certificate issued by Bioagricert S.r.l. are also excluded from this order. See memorandum from Eric B. Greynolds to Melissa G. Skinner, dated August 4, 2004, which is on file in the Department's Central Records Unit (“CRU”) in Room B-099 of the main Department Building.

The merchandise subject to review is currently classifiable under items 1901.90.9095 and 1902.19.20 of the Harmonized Tariff Schedule of the United States (“HTSUS”). Although the HTSUS subheadings are provided for convenience and customs purposes, the written description of the merchandise subject to the order is dispositive.

Scope Rulings

The Department has issued the following scope rulings to date:

(1) On August 25, 1997, the Department issued a scope ruling that multicolored pasta, imported in kitchen display bottles of decorative glass that are sealed with cork or paraffin and bound with raffia, is excluded from the scope of the antidumping and countervailing duty orders. See memorandum from Edward Easton to Richard Moreland, dated August 25, 1997, which is on file in the CRU.

(2) On July 30, 1998, the Department issued a scope ruling finding that multipacks consisting of six one-pound packages of pasta that are shrink-wrapped into a single package are within the scope of the antidumping and countervailing duty orders. See letter from Susan H. Kuhbach to Barbara P. Sidari, dated July 30, 1998, which is available in the CRU.

(3) On October 23, 1997, the petitioners filed an application requesting that the Department initiate an anti\circumvention investigation of Barilla S.r.L. (“Barilla”), an Italian producer and exporter of pasta. The Department initiated the investigation on December 8, 1997. See Initiation of Anti-Circumvention Inquiry on Antidumping Duty Orders on Certain Pasta From Italy, 62 FR 65673 (December 15, 1997). On October 5, 1998, the Department issued its final determination that, pursuant to section 781(a) of the Tariff Act of 1930, as amended by the Uruguay Round Agreements Act (“URAA”) effective January 1, 1995 (“the Act”), circumvention of the antidumping order on pasta from Italy was occurring by reason of exports of bulk pasta from Italy produced by Barilla which subsequently were repackaged in the United States into packages of five pounds or less for sale in the United States. See Anti-Circumvention Inquiry of the Antidumping Duty Order on Certain Pasta from Italy: Affirmative Final Determination of Circumvention of the antidumping Duty Order, 63 FR 54672 (October 13, 1998).

(4) On October 26, 1998, the Department self-initiated a scope inquiry to determine whether a package weighing over five pounds as a result of allowable industry tolerances is within the scope of the antidumping and countervailing duty orders. On May 24, 1999, we issued a final scope ruling finding that, effective October 26, 1998, pasta in packages weighing or labeled up to (and including) five pounds four ounces is within the scope of the antidumping and countervailing duty orders. See memorandum from John Brinkmann to Rickard Moreland, dated May 24, 1999, which is available in the CRU.

(5) On April 27, 2000, the Department self-initiated an anti-circumvention inquiry to determine whether Pastificio Fratelli Pagani S.p.A.'s importation of pasta in bulk and subsequent repackaging in the United States into packages of five pounds or less constitutes circumvention with respect to the antidumping and countervailing duty orders on pasta from Italy pursuant to section 781(a) of the Act and 19 CFR 351.225(b). See Certain Pasta from Italy: Notice of Initiation of Anti-circumvention Inquiry of the Antidumping and Countervailing Duty Orders, 65 FR 26179 (May 5, 2000). On September 19, 2003, we published an affirmative finding of the anti-circumvention inquiry. See Anti-Circumvention Inquiry of the Antidumping and Countervailing Duty Orders on Certain Pasta from Italy: Affirmative Final Determinations of Circumvention of Antidumping and Countervailing Duty Orders, 68 FR 54888 (September 19, 2003).

Period of Review

The period for which we are measuring subsidies, or POR, is January 1, 2003 through December 31, 2003.

Changes in Ownership

Effective June 30, 2003, the Department adopted a new methodology for analyzing privatizations in the countervailing duty context. See Notice of Final Modification of Agency Practice Under Section 123 of the Uruguay Round Agreements Act, 68 FR 37125 (June 23, 2003) (“Modification Notice”).² The Department's new methodology is based on a rebuttable “baseline” presumption that non-recurring, allocable subsides continue to benefit the subsidy recipient throughout the allocation period (which normally corresponds to the average useful life (“AUL”) of the recipient's assets). However, an interested party may rebut this baseline presumption by demonstrating that, during the allocation period, a change in ownership occurred in which the former owner sold all or substantially all of a company or its assets, retaining no control of the company or its assets, and that the sale was an arm's-length transaction for fair market value.

² The Modification Notice explicitly addresses full privatizations, but notes that the Department would not make a decision at that time as to whether the new methodology would also be applied to other types of ownership changes and factual scenarios, such as partial privatizations or private-to-private sales. See 68 FR at 37136. We have now determined to apply the new methodology to full, private-to-private sales of a company (or its assets) as well. Among other reasons, we note that our prior “same person” methodology used for analyzing changes in ownership such as private-to-private sales has been found not in accordance with law in Allegheny Ludlum Corp. v. United States, 367 F.3d 1339 (Fed. Cir. 2004).

In considering whether the evidence presented demonstrates that the transaction was conducted at arm's length, we will be guided by the definition of an arm's-length transaction included in the Statement of Administrative Action accompanying the URAA, H.R. Doc. No. 103-316, vol. 1 (1994), which defines an arm's-length transaction as a transaction negotiated between unrelated parties, each acting in its own interest, or between related parties such that the terms of the transaction are those that would exist if the transaction had been negotiated between unrelated parties. See id. at 928.

In analyzing whether the transaction was for fair market value, the basic question is whether the full amount that the company or its assets (including the value of any subsidy benefits) was actually worth under the prevailing market conditions was paid, and paid through monetary or equivalent compensation. In making this determination, the Department will normally examine whether the seller acted in a manner consistent with the normal sales practices of private, commercial sellers in that country. Where an arm's-length sale occurs between purely private parties, we would normally expect the private seller to act in a manner consistent with the normal sales practices of private, commercial sellers in that country. With regard to a government-to-private transaction, however, where we cannot make that same assumption, a primary consideration in this regard normally will be whether the government failed to maximize its return on what it sold, indicating that the purchaser paid less for the company or assets than it otherwise would have had the government acted in a manner consistent with the normal sales practices of private, commercial sellers in that country.

If we determine that the evidence presented does not demonstrate that the change in ownership was at arm's length for fair market value, the baseline presumption will not be rebutted and we will find that the unamortized amount of any pre-sale subsidy benefit continues to be counteravailable. Otherwise, if it is demonstrated that the change in ownership was at arm's length for fair market value, any pre-sales subsidies will be presumed to be extinguished in their entirety and, therefore, non-counteravailable.

A party can, however, obviate this presumption of extinguishment by demonstrating that, at the time of the change in ownership, the broader market conditions necessary for the transaction price to reflect fairly and accurately the subsidy benefit were not present, or were severely distorted by government action (or, where appropriate, inaction). In other words, even if we find that the sales price was at “market value,” parties can demonstrate that the broader market conditions were severely distorted by the government and that the transaction price was meaningfully different from what it would otherwise have been absent the distortive government action.

Where a party demonstrates that these broader market conditions were severely distorted by government action and that the transaction price was meaningfully different from what it would otherwise have been absent the distortive government action, the baseline presumption will not be rebutted and the unamortized amount of any non-recurring pre-sale subsidy benefit will continue to be countervailable. Where a party does not make such a demonstration with regard to an arm's-length sale for fair market value, we will find all non-recurring pre-sale subsidies to be extinguished by the sale and, therefore, non-countervailable.

In the instant proceeding, Corticella/Combattenti underwent changes in ownership during the applicable period. Corticella/Combattenti did not challenge the Department's baseline presumption that non-recurring subsidies continue to benefit the recipient over the allocation period. Thus, we preliminarily find for this respondent that any unallocated benefits from non-recurring subsidies received prior to its change in ownership continue to be countervailable.

Subsidies Valuation Information

Allocation Period

Pursuant to 19 CFR 351.524(b), non-recurring subsidies are allocated over a period corresponding to the AUL of the renewable physical assets used to produce the subject merchandise. Section 351.524(d)(2) of the Department's regulations creates a rebuttable presumption that the AUL will be taken from the U.S. Internal Revenue Service's 1977 Class Life Asset Depreciation Range System (“IRS Tables”). See 19 CFR 351.524(d)(2). For pasta, the IRS Tables prescribe an AUL of 12 years. None of the responding companies or interested parties objected to this allocation period. Therefore, we have used the 12-year allocation period for all respondents.

Attribution of Subsidies

Pursuanty to 19 CFR 351.525(b)(6), the Department will attribute subsidies received by certain companies to the combined sales of those companies. Based on our review of the responses, we preliminarily find that “cross-ownership” exists with respect to certain companies, as described below, and we have attributed subsidies accordingly.

Lensi: Lensi is an Italian producer and exporter of pasta. As further discussed in the April 4, 2005 proprietary memorandum entitled “Pasta Lensi S.r.1.—Attribution Issues,” which is on file in the Department's CRU, Lensi has reported that IAPC Leasing, another company in Lensi's family of companies, did not receive any benefits under the programs being examined. Therefore, there are no benefits to this company that require attribution. Moreover, IAPC Leasing does not produce subject merchandise. Thus, we are attributing any subsidies received to Lensi's sales only.

Corticella/Combattenti: Corticella and Combattenti are both producers of the subject merchandise and are owned by the same holding company, Euricom S.p.A. (“Euricom”), and companies in the Euricom group. Euricom group companies own 100 percent of Combattenti and 70 percent of Corticella. Other Euricom group companies are also involved in the production and distribution of subject merchandise. Specifically, one group company (whose name is proprietary), receives a commission on some of Corticella's home market sales. Also, Euricom group company Molini Certosa S.p.A. (“Certosa”) mills durum and non-durum wheat, some of which is an input for the Corticella/Combattenti subject merchandise.

Additionally, Cooperative Lomellina Cerealicoltori (“CLC”), which is a cooperative, provides conversion services for Combattenti. CLC was formed in 1980 for the sole purpose of producing rise. In 1990, CLC signed an agreement with Combattenti to “toll produce all of Combattenti's pasta production requirements” following a fire at Combattenti's pasta factory. See Corticella/Combattenti's November 5, 2004 submission at Exhibit 2, page 5. CLC is not part of the Euricom group and Euricom is not a member of CLC. However, Euricom's majority shareholder is a member/shareholder of the CLC cooperative. Euricom's majority shareholder was the sole administrator of Combattenti during most of the POR, and also “had operational and management control over CLC and could direct CLC's workers.” See id. The son of Euricom's majority shareholder was also a CLC member/shareholder, as well as member of both Combattenti's and CLC's boards, and was “very active in both companies day to day activities.” See id. According to Corticella/Combattenti, Euricom's majority shareholder and his son control “the direction of CLC and Combattenti,” with Euricom's majority shareholder “taking a more strategic role” and his son “taking a hands-on-day-to-day operational role.” See Corticella/Combattenti's December 6, 2004 submission at 4.

With regard to Corticella and Combattenti, we preliminarily find that they each meet the criteria for cross-ownership in 19 CFR 351.525(b)(6)(ii). As for Certosa, we preliminarily find that it meets the criteria in 19 CFR 351.525(b)(6)(iv). With regard to the Euricom group company that receives a commission on some of Corticella's home market sales, the company does not meet any of the criteria in 19 CFR 351.525(b)(6)(ii) through (iv). Moreover, because Corticella/Combattenti has reported that this company acts as a selling agent only on Corticella's home market sales and not on its exports, 19 CFR 351.525(c) does not apply. Thus, we are also not including subsidies received by this company or this company's sales in our preliminary subsidy calculations.

Finally, with regard to CLC, in Certain Pasta from Italy: Final Results of the Seventh Countervailing Duty Administrative Review, 69 FR 70657 (December 7, 2004) (“Pasta Seventh Review”) and the accompanying Issues and Decision Memorandum in the “Attribution of Subsidies” section, we determined that cross-ownership did not exist with regard to CLC consistent with 19 CFR 351.525(b)(6)(vi). In the instant review, we have new information with regard to CLC and its relationship with Combattenti and the Euricom group that might, otherwise, warrant a reconsideration of our earlier finding. However, because CLC did not receive any benefits under the programs being examined, and because CLC's other division (the first being the division that operates the Combattenti facilities), has no past-related operations, there is no need in the instant review to revisit our previous finding on this matter.

Combattenti/Corticella has reported that Euricom and Certosa did not receive any POR subsidies. Thus, we are attributing any subsidies received to the combined sales of Corticella and Combattenti.

Discount Rates

Pursuant to 19 CFR 351.524(d)(3)(i)(B), we used the national average cost of long-term, fixed-rate loans as a discount rate for allocating non-recurring benefits over time because no company for which we need such discount rates took out any loans in the years in which the government agreed to provide the subsidies in question. Consistent with past practice in this proceeding, for years prior to 1995, we used the Bank of Italy reference rate adjusted upward to reflect the mark-up an Italian commercial bank would charge a corporate customer. For benefits received in 1995 and later, we used the Italian Bankers' Association interest rate, increased by the average spread charged by banks on loans to commercial customers plus an amount for bank charges.

Analysis of Programs

I. Program Preliminarily Determined To Confer Subsidies During the POR

Export Marketing Grants Under Law 304/90

Under Law 304/90, the GOI provided grants to promote the sale of Italian food and agricultural products in foreign markets. The grants were given for pilot projects aimed at developing links and integrating marketing efforts between Italian food producers and foreign distributors. The emphasis was on assisting small and medium-sized enterprises.

Corticella received a grant under this program in 1993 to assist it in establishing a sales office and network in the United States. No other respondent covered by this review received benefits under this program during the POR.

In the Final Affirmative Countervailing Duty Determination: Certain Pasta from Italy, 61 FR 30288 (June 14, 1996) (“Pasta Investigation”), the Department determined that these export marketing grants confer a countervailable subsidy within the meaning of section 771(5) of the Act. They are a direct transfer of funds from the GOI bestowing a benefit in the amount of the grant. Also, these grants were found to be specific within the meaning of section 771(5A)(B) of the Act because their receipt was contingent upon exportation. In this review, neither the GOI nor the responding companies have provided new information which would warrant reconsideration of our determination that these grants confer a countervailable subsidy.

Also in the Pasta Investigation, the Department treated these export marketing grants as non-recurring. No new information has been placed on the record of this review that would cause us to depart from this treatment.

Because the amount of the grant that was approved by the GOI exceeded 0.5 percent of Corticella's exports to the United States in the year of approval, we used the grant methodology described in 19 CFR 351.524(d) to allocate the benefit over time. We divided the benefit attributable to the POR by the value of the companies' total exports to the United States in the POR.

On this basis, we preliminarily determine the countervailable subsidy from these Law 304/90 export marketing grants to be 0.06 percent ad valorem for Corticella/Combattenti.

II. Programs Preliminarily Determined Not To Confer Subsidies During the POR

A. Social Security Reductions and Exemptions—Sgravi

Italian law allows companies, particularly those localted in the Mezzogiorno (sourthern Italy), to use a variety of exemptions and reductions (sgravi) of the payroll contributions that employers make to the Italian social security system for health care benefits, pensions, etc. The sgravi benefits are regulated by a complex set of laws and regulations, and are sometimes linked to conditions such as creating more jobs. We have found in past segments of this proceeding that the benefits under some of these laws (e.g., Laws 183/76 and 449/97) are available only to companies located in the Mezzogiorno and other disadvantaged regions. Other laws (e.g., Laws 407/90 and 863/84) provide benefits to companies all over Italy, but the level of benefits is higher for companies in the south than for companies in other parts of the country.

The various laws identified as having provided sgravi benefits during the POR are the following: Law 407/90 (Lensi), Law 223/91 (Lensi and Combattenti), and Law 337/90 (Corticella).

In the instant review, no party in this proceeding challenged our past determinations in the Pasta Investigation and subsequent reviews that sgravi benefits were not countervailable for companies located outside of the Mezzogiorno. Additionally, no new information or evidence of changed circumstances was received that would warrant reconsideration of these past determinations. Therefore, because Lensi and Corticella/Combattenti are not located in the Mezzogiorno, we find that neither of these companies recieved countervailable subsidies under this program during the POR.

B. Brescia Chamber of Commerce Grants

The Chamber of Commerce of Brescia provided training grants during 2002 and 2003 to companies in the province of Brescia for the professional training of entrepreneurs, directors, and employees. The goal of these grants was to improve economic, social, and productive development in the province. The Brescia Chamber of Commerce also provided grants to small and medium-sized enterprises, artisan and agricultural enterprises, and pools and cooperatives in the province of Brescia for their direct participation in fairs and exhibitions abroad during calendar year 2003.

Lensi was the only respondent in this proceeding that reported receiving grants from the Brescia Chamber of Commerce. Specifically, Lensi reported receiving training grants from the Brescia Chamber of Commerce in 2002 and 2003. Lensi also reported receiving a fairs and exhibitions grant in 2004, subsequent to the POR.

With regard to the training grants, in situations where any benefit to the subject merchandise would be so small that there would be no impact on the overall subsidy rate, regardless of a determination of counteravailability, it may not be necessary to determine whether benefits conferred under these programs to the subject merchandise are counteravailable. (See, e.g., Pasta Seventh Review and Live Cattle From Canada; Final Negative Countervailing Duty Determination, 64 FR 57040, 57055 (October 22, 1999).) In this instance, any benefit to the subject merchandise resulting from this grant would be so small that there would be no impact on the overall subsidy rate, regardless of a determination of counteravailability. Thus, consistent with our past practice, we do not consider it necessary to determine whether benefits conferred thereunder to the subject merchandise are countervailable.

As for the fairs and exhibitions grant, because it was received in 2004, subsequent to the POR, we preliminarily find that no benefit was provided to Lensi during the POR from this grant.

III. Programs Preliminarily Determined Not to Have Been Used During the POR

We examined the following programs and preliminarily determine that the producers and/or exporters of the subject merchandise under review did not apply for or receive benefits under these programs during the POR:

A. Industrial Development Grants Under Law 488/92

B. Industrial Development Loans Under Law 64/86

C. European Regional Development Fund Grants

D. Law 236/93 Training Grants

E. Law 1329/65 Interest Contributions (Sabatini Law) (Formerly Lump-Sum Interest Payment Under the Sabatini Law for Companies in Southern Italy)

F. Development Grants Under Law 30 of 1984

G. Law 908/55 Fondo di Rotazione Iniziative Economiche (Revolving Fund for Economic Initiatives) Loans

H. Industrial Development Grants Under Law 64/86

I. Law 317/91 Benefits for Innovative Investments

J. Tremonti Law 489/94 (Formerly Law Decree 357/94)

k. Ministerial Decree 87/02

L. Law 10/91 Grants to Fund Energy Conservation

M. Law 341/95 Interest Contributions on Debt Consolidation Loans (Formerly Debt Consolidation Law 341/95)

N. Regional Tax Exemptions Under IRAP

O. Corporate Income Tax (IRPEG) Exemptions

P. Export Restitution Payments

Q. VAT Reductions Under Laws 64/86 and 675/55

R. Export Credits Under Law 227/77

S. Capital Grants Under Law 675/77

T. Retraining Grants Under Law 675/77

U. Interest Contributions on Bank Loans Under Law 675/77

V. Interest Grants Financed by IRI Bonds

W. Preferential Financing for Export Promotion Under Law 394/81

X. Urban Redevelopment Under Law 181

Y. Grant Received Pursuant to the Community Initiative Concerning the Preparation of Enterprises for the Single Market (PRISMA)

Z. Industrial Development Grants under Law

AA. Interest Subsidies Under Law 598/94

AB. Duty-Free Import Rights

AC. Remission of Taxes on Export Credit Insurance Under Article 33 of Law 227/77

AD. European Social Fund Grants

AE. Law 113/86 Training Grants

AF. European Agricultural Guidance and Guarantee Fund

Preliminary Results of Review

In accordance with 19 CFR 351.221(b)(4)(i), we calculated an individual subsidy rate for each producer/exporter covered by this administrative review. For the period January 1, 2003 through December 31, 2003, we preliminarily find the net subsidy rates for the producers/exporters under review to be those specified in the chart shown below:

Producer/exporter | Net subsidy rate (percent)
Pasta Lensi S.r.1. | ¹ 0.00
Pastificio Corticella S.p.A./Pastificio Combattenti S.p.A. | ¹ 0.06
¹ De minimis.

The calculations will be disclosed to the interested parties in accordance with 19 CFR 351.224(b).

If the final results of this review remain the same as these preliminary results, because the countervailing duty rates for all of the above-noted companies are less than 0.5 percent and, consequently, de minimis, we will instruct Customs to liquidate entries during the period January 1, 2003 through December 31, 2003 without regard to countervailing duties in accordance with 19 CFR 351.106(c)(1). The Department will issue appropriate instructions directly to Customs within 15 days of publication of these final results of this review.

For all other companies that were not reviewed (except Barilla G. e R. F.IIi S.p.A. and Gruppo Agricoltura Sana S.r.L., which are excluded from the order), the Department has directed Customs to assess countervailing duties on all entries between January 1, 2003 and December 31, 2003 at the rates in effect at the time of entry.

The Department also intends to instruct Customs to collect cash deposits of estimated countervailing duties for the above-noted companies at the above-noted rates on the f.o.b. value of all shipments of the subject merchandise from the producers/exporters under review that are entered, or withdrawn from warehouse, for consumption on or after the date of publication of the final results of this administrative review. For all non-reviewed firms (except Barilla G. e R. F.IIi S.p.A, and Gruppe Agricoltura Sana S.r.L., which are excluded from the order), we will instruct Customs to collect cash deposits of estimated countervailing duties at the most recent company-specific or all others rate applicable to the company. These rates shall apply to all non-reviewed companies until a review of a company assigned these rates is requested.

Public Comment

Interested parties may submit written arguments in case briefs within 30 days of the date of publication of this notice. Rebuttal briefs, limited to issues raised in case briefs, may be filed not later than five days after the date of filing the case briefs. Parties who submit briefs in this proceeding should provide a summary of the arguments not to exceed five pages and a table of statutes, regulations, and cases cited. Copies of case briefs and rebuttal briefs must be served on interested parties in accordance with 19 CFR 351.303(f).

Interested parties may request a hearing within 30 days after the date of publication of this notice. Any hearing, if requested, will be held two days after the scheduled date for submission of rebuttal briefs.

The Department will publish a notice of the final results of this administrative review within 120 days from the publication of these preliminary results.

We are issuing and publishing these results in accordance with sections 751(a)(1) and 777(i)(1) of the Act.

Dated: March 31, 2005.
Joseph A. Spetrini,
Acting Assistant Secretary for Import Administration.

[FR Doc. 05-6958 Filed 4-7-05; 8:45 am]

BILLING CODE 3510-DS-M